DEPARTMENT OF LABOR

Employment and Training Administration

[TA-W-50,114]

Cadmus Mack (CPS), East Stroudsburg, PA; Notice of Negative Determination Regarding Application for Reconsideration

By application postmarked February 12, 2003, the Graphic Communications International Union (GCIU), Local 350C, requested administrative reconsideration of the Department's negative determination regarding eligibility to apply for Trade Adjustment Assistance (TAA), applicable to workers and former workers of the subject firm. The denial notice was signed on January 17, 2003, and published in the Federal Register on February 6, 2003 (68 FR 6211).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of Cadmus Mack (CPS), East Stroudsburg, Pennsylvania was denied because the “contributed importantly” group eligibility requirement of section 222 of the Trade Act of 1974, was not met. Imports did not contribute importantly to the layoffs at the subject plant nor was there a shift in production to a foreign source.

The union asserts that the loss in business at the subject firm was directly attributable to competition with a Canadian competitor and its “dominance in the marketplace” is responsible for declines at the subject firm. Specifically, the union states that this Canadian firm has been the “largest commercial printer in the U.S. and Canada for four years in a row.”

The original investigation established that layoffs and the closing of the East Stroudsberg facility were directly attributable to a transfer of production to a domestic affiliate. Further, sales and production declined minimally prior to the domestic shift.

In addition, a review of aggregate U.S. import data of newspapers, journals and periodicals for January through October 2002 declined in volume over the corresponding period of 2001.

Conclusion

After review of the application and investigative findings, I conclude that there has been no error or misinterpretation of the law or of the facts which would justify reconsideration of the Department of Labor's prior decision. Accordingly, the application is denied.

Signed at Washington, DC, this 10th day of July, 2003.
Elliott S. Kushner,
Certifying Officer, Division of Trade Adjustment Assistance.

[FR Doc. 03-18823 Filed 7-23-03; 8:45 am]

BILLING CODE 4510-30-P